DEPARTMENT OF ENERGY

[OE Docket No. EA-404]

Application To Export Electric Energy; Chubu TT Energy Management Inc.

AGENCY: Office of Electricity Delivery and Energy Reliability, DOE.

ACTION: Notice of application.

SUMMARY: Chubu TT Energy Management Inc. (Chubu TT) has applied for authority to transmit electric energy from the United States to Canada pursuant to section 202(e) of the Federal Power Act.

DATES: Comments, protests, or motions to intervene must be submitted on or before February 26, 2015.

ADDRESSES: Comments, protests, motions to intervene, or requests for more information should be addressed to: Office of Electricity Delivery and Energy Reliability, Mail Code: OE-20, U.S. Department of Energy, 1000 Independence Avenue SW., Washington, DC 20585-0350. Because of delays in handling conventional mail, it is recommended that documents be transmitted by overnight mail, by electronic mail to Electricity.Exports@hq.doe.gov, or by facsimile to 202-586-8008.

SUPPLEMENTARY INFORMATION: Exports of electricity from the United States to a foreign country are regulated by the Department of Energy (DOE) pursuant to sections 301(b) and 402(f) of the Department of Energy Organization Act (42 U.S.C. 7151(b), 7172(f)) and require authorization under section 202(e) of the Federal Power Act (16 U.S.C. 824a(e)).

On January 12, 2015, DOE received an application from Chubu TT for authority to transmit electric energy from the United States to Canada for five years using existing international transmission facilities. Chubu TT is in the process of becoming a licensed competitive electricity provider in Ontario, Canada. Chubu TT is also in the process of applying for market-based rate authority from the Federal Energy Regulatory Commission (“FERC”) in order to trade and market electricity in the United States. Chubu TT states that it will make all of the necessary commercial arrangements and will obtain any and all of the required regulatory approvals in order to effect any power exports.

The electric energy that Chubu TT proposes to export to Canada would be surplus energy purchased from electric utilities and other entities within the United States. The existing international transmission facilities to be utilized by Chubu TT have previously been authorized by Presidential permits issued pursuant to Executive Order 10485, as amended, and are appropriate for open access transmission by third parties.

Procedural Matters: Any person desiring to be heard in this proceeding should file a comment or protest to the application at the address provided above. Protests should be filed in accordance with Rule 211 of the Federal Energy Regulatory Commission's (FERC) Rules of Practice and Procedures (18 CFR 385.211). Any person desiring to become a party to these proceedings should file a motion to intervene at the above address in accordance with FERC Rule 214 (18 CFR 385.214). Five copies of such comments, protests, or motions to intervene should be sent to the address provided above on or before the date listed above.

Comments and other filings concerning the Chubu TT Energy Management Inc. application to export electric energy to Canada should be clearly marked with OE Docket No. EA-404. An additional copy is to be provided directly to both Rob Coulbeck, Chubu TT Energy Management Inc., Goreway Power Station, 8600 Goreway Drive, Brampton, Ontario L6T 0A8 Canada and to Joseph H. Fagan, Day Pitney LLP, 1100 New York Avenue NW., Suite 300 E, Washington, DC 20005.

A final decision will be made on this application after the environmental impacts have been evaluated pursuant to DOE's National Environmental Policy Act Implementing Procedures (10 CFR part 1021) and after a determination is made by DOE that the proposed action will not have an adverse impact on the sufficiency of supply or reliability of the U.S. electric power supply system.

Copies of this application will be made available, upon request, for public inspection and copying at the address provided above, by accessing the program Web site at http://energy.gov/node/11845, or by emailing Angela Troy at Angela.Troy@hq.doe.gov.

Issued in Washington, DC, on January 22, 2015.
Brian Mills,
Director, Permitting and Siting, Office of Electricity Delivery and Energy Reliability.

[FR Doc. 2015-01412 Filed 1-26-15; 8:45 am]

BILLING CODE 6450-01-P